DEPARTMENT OF THE TREASURY

Office of Thrift Supervision

12 CFR Parts 528, 546, 552, 561, 563, 563b, 570, 574, 575, and 583

[No. 2006-15]

RIN 1550-AC05

Technical Amendments To Reflect BIF and SAIF Merger

AGENCY: Office of Thrift Supervision, Treasury.

ACTION: Final rule.

SUMMARY: The Office of Thrift Supervision (OTS) is amending its regulations to incorporate numerous technical and conforming amendments necessary to reflect the recent merger of the Bank Insurance Fund (BIF) and the Savings Association Insurance Fund (SAIF).

DATES: Effective Date: April 18, 2006.

FOR FURTHER INFORMATION CONTACT: Sandra E. Evans, Legal Information Assistant (Regulations), (202) 906-6076; or Richard Bennett, Counsel, (202) 906-7409, Regulations and Legislation Division, Chief Counsel's Office, Office of Thrift Supervision, 1700 G Street, NW., Washington, DC 20552.

SUPPLEMENTARY INFORMATION: OTS is amending its regulations to incorporate numerous technical and conforming amendments necessary to reflect the recent merger of the Bank Insurance Fund (BIF) and the Savings Association Insurance Fund (SAIF). The Deposit Insurance Reform Act of 2005, which was enacted as part of the Deficit Reduction Act of 2005, Public Law 109-171, brought about this merger, creating one Deposit Insurance Fund (DIF). The President signed that act into law on February 8, 2006.

The Act provides that the merger would take effect no later than July 1, 2006. The Federal Deposit Insurance Corporation made the merger effective March 31, 2006.

Accordingly, OTS is making technical and conforming amendments to its regulations. These include deleting references to SAIF and BIF, substituting references to DIF where applicable, and other related changes to simplify definitions and provisions consistent with the Deposit Insurance Reform Act of 2005.

Administrative Procedure Act; Riegle Community Development and Regulatory Improvement Act of 1994

OTS finds that there is good cause to dispense with prior notice and comment on this final rule and with the 30-day delay of effective date mandated by the Administrative Procedure Act. 5 U.S.C. 553. OTS believes that these procedures are unnecessary and contrary to public interest because the rule merely makes technical and conforming amendments to existing provisions necessitated by the merger of BIF and SAIF under the Deposit Insurance Reform Act of 2005. That merger took effect March 31, 2006.

Section 302 of the Riegle Community Development and Regulatory Improvement Act of 1994 provides that regulations that impose additional reporting, disclosure, or other new requirements may not take effect before the first day of the quarter following publication. Public Law 103-325, 12 U.S.C. 4802. This section does not apply because this final rule imposes no additional requirements and makes only technical and conforming changes to existing regulations.

Regulatory Flexibility Act

Pursuant to section 605(b) of the Regulatory Flexibility Act, Public Law 96-354, 5 U.S.C. 601, the OTS Director certifies that this regulation will not have a significant economic impact on a substantial number of small entities.

Executive Order 12866

OTS has determined that this rule is not a “significant regulatory action” for purposes of Executive Order 12866.

Unfunded Mandates Reform Act of 1995

OTS has determined that the requirements of this final rule will not result in expenditures by State, local, and tribal governments, or by the private sector, of $100 million or more in any one year. Accordingly, a budgetary impact statement is not required under section 202 of the Unfunded Mandates Reform Act of 1995.

List of Subjects

12 CFR Part 528

Advertising, Aged, Civil rights, Credit, Equal employment opportunity, Fair housing, Individuals with disabilities, Marital status discrimination, Mortgages, Religious discrimination, Reporting and recordkeeping requirements, Savings associations, Sex discrimination, Signs and symbols.

12 CFR Part 546

Reporting and recordkeeping requirements, Savings associations.

12 CFR Parts 552 and 563b

Reporting and recordkeeping requirements, Savings associations, Securities.

12 CFR Part 561

Savings associations.

12 CFR Part 563

Accounting, Administrative practice and procedure, Advertising, Conflict of interest, Crime, Currency, Holding companies, Investments, Mortgages, Reporting and recordkeeping requirements, Savings associations, Securities, Surety bond.

12 CFR Part 570

Accounting, Administrative practice and procedure, Bank deposit insurance, Holding companies, Reporting and recordkeeping requirements, Savings associations.

12 CFR Part 574

Administrative practice and procedure, Holding companies, Reporting and recordkeeping requirements, Savings associations, Securities.

12 CFR Part 575

Administrative practice and procedure, Holding companies, Reporting and recordkeeping requirements, Savings associations, Securities.

12 CFR Part 583

Holding companies, Savings associations.

Accordingly, the Office of Thrift Supervision amends title 12, chapter V of the Code of Federal Regulations, as set forth below.

PART 528—NONDISCRIMINATION REQUIREMENTS

1. The authority citation for part 528 continues to read as follows:

Authority: 12 U.S.C. 1464, 2810 et seq., 2901 et seq.; 15 U.S.C. 1691; 42 U.S.C. 1981, 1982, 3601-3619.

2. Revise § 528.1(b) to read as follows:

§ 528.1 Definitions.

* * * * *

(b) Savings association. The term “savings association” means any savings association as defined in 12 U.S.C. 1813(b).

* * * * *

PART 546—FEDERAL MUTUAL SAVINGS ASSOCIATIONS—MERGER, DISSOLUTION, REORGANIZATION, AND CONVERSION

3. The authority citation for part 546 continues to read as follows:

Authority: 12 U.S.C. 1462, 1462a, 1463, 1464, 1467a, 2901 et seq.

4. Revise § 546.2(a)(3) to read as follows:

§ 546.2 Procedure; effective date.

* * * * *

(a) * * *

(3) Any resulting Federal savings association conforms within the time prescribed by the OTS to the requirements of sections 5(c) and 10(m) of the Home Owners' Loan Act; and

* * * * *

PART 552—FEDERAL STOCK ASSOCIATIONS—INCORPORATION, ORGANIZATION, AND CONVERSION

5. The authority citation for part 552 continues to read as follows:

Authority: 12 U.S.C. 1462, 1462a, 1463, 1464, 1467a.

6. Revise § 552.13(a) and (c)(3) to read as follows:

§ 552.13 Combinations involving Federal stock associations.

(a) Scope and authority. Federal stock associations may enter into combinations only in accordance with the provisions of this section, section 18(c) of the Federal Deposit Insurance Act, sections 5(d)(3)(A) and 10(s) of the Home Owners' Loan Act, and § 563.22 of this part.

* * * * *

(c) * * *

(3) Any resulting Federal savings association conforms within the time prescribed by the OTS to the requirements of sections 5(c) and 10(m) of the Home Owners' Loan Act; and

* * * * *

PART 561—DEFINITIONS FOR REGULATIONS AFFECTING ALL SAVINGS ASSOCIATIONS

7. The authority citation for part 561 continues to read as follows:

Authority: 12 U.S.C. 1462, 1462a, 1463, 1464, 1467a.

§ 561.3 [Amended]

8. Amend § 561.3 by removing “SAIF” and adding in its place “Deposit Insurance Fund”.

§ 561.7 [Removed]

9. Remove and reserve § 561.7.

§ 561.41 [Removed]

10. Remove and reserve § 561.41.

PART 563—SAVINGS ASSOCIATIONS—OPERATIONS

11. The authority citation for part 563 continues to read as follows:

Authority: 12 U.S.C. 375b, 1462, 1462a, 1463, 1464, 1467a, 1468, 1817, 1820, 1828, 1831o, 3806; 31 U.S.C. 5318; 42 U.S.C. 4106.

12. Amend § 563.22 as follows:

a. Revise paragraph (d)(4);

b. Remove “the Savings Association Insurance Fund, the Bank Insurance Fund,” and add in its place “the Deposit Insurance Fund” in paragraph (e)(2)(i);

c. Remove “, except as provided in paragraph (h)(2)(iii) of this section” in paragraph (h)(2)(ii); and

d. Remove paragraph (h)(2)(iii), to read as follows:

§ 563.22 Merger, consolidation, purchase or sale of assets, or assumption of liabilities.

* * * * *

(d) * * *

(4) Applications filed under paragraph (a) of this section must be processed in accordance with the time frames set forth in §§ 516.210 through 516.290 of this chapter, provided that the period for review may be extended only if the Office determines that the applicant has failed to furnish all requested information or that the information submitted is substantially inaccurate, in which case the review period may be extended for up to 30 days.

* * * * *

§ 563.81 [Amended]

13. Amend § 563.81 as follows:

a. Remove “the Savings Association Insurance Fund or the Bank Insurance Fund, as the case may be,” and add in its place “the Deposit Insurance Fund” in paragraph (b)(3);

b. Remove “the Savings Association Insurance Fund or the Bank Insurance Fund, as the case may be,” and add in its place “the Deposit Insurance Fund” in paragraph (f);

c. Remove “whose accounts are insured by the Savings Association Insurance Fund,” in paragraph (k)(3)(ii); and

d. Remove “the Savings Association Insurance Fund or the Bank Insurance Fund, as appropriate” and add in its place “the Deposit Insurance Fund” in paragraph (k)(5)(i).

PART 563b—CONVERSIONS FROM MUTUAL TO STOCK FORM

14. The authority citation for part 563b continues to read as follows:

Authority: 12 U.S.C. 1462, 1462a, 1463, 1464, 1467a, 2901; 15 U.S.C. 78c, 78l, 78m, 78n, 78w.

§ 563b.625 [Amended]

15. Amend § 563b.625 by removing “the federal deposit insurance funds” and adding in its place “the Deposit Insurance Fund” in paragraphs (b)(3) and (4).

§ 563b.630 [Amended]

16. Revise the section heading of § 563b.630 to read as follows:

§ 563b.630 When is a state-chartered savings bank eligible for a voluntary supervisory conversion?

17. Amend the introductory text of § 563b.630 by removing “BIF-insured”.

§ 563b.670 [Amended]

18. Amend § 563b.670 by removing “the federal deposit insurance funds” and adding in its place “the Deposit Insurance Fund” in paragraph (b).

§ 563b.675 [Amended]

19. Amend § 563b.675 by removing “the federal deposit insurance funds” and adding in its place “the Deposit Insurance Fund” in paragraph (b)(1).

PART 570—SAFETY AND SOUNDNESS GUIDELINES AND COMPLIANCE PROCEDURES

20. The authority citation for part 570 continues to read as follows:

Authority: 12 U.S.C. 1462a, 1463, 1464, 1467a, 1828, 1831p-1, 1881-1884; 15 U.S.C. 1681s and 1681w; 15 U.S.C. 6801 and 6805(b)(1).

Appendix A to Part 570 [Amended]

21. Amend paragraph I(vi) of Appendix A by removing “the deposit insurance funds” and adding in its place “the Deposit Insurance Fund”.

PART 574—ACQUISITION OF CONTROL OF SAVINGS ASSOCIATIONS

22. The authority citation for part 574 continues to read as follows:

Authority: 12 U.S.C. 1467a, 1817, 1831i.

§ 574.2 [Amended]

23. Remove and reserve § 574.2, paragraphs (e) and (o).

§ 574.7 [Amended]

24. Amend § 574.7 as follows:

a. Remove “the SAIF or BIF; or” and add in its place “the Deposit Insurance Fund; or” in paragraph (c)(1)(i);

b. Remove “the SAIF or the BIF” and add in its place “the Deposit Insurance Fund” in paragraph (d)(6).

PART 575—MUTUAL HOLDING COMPANIES

25. The authority citation for part 575 continues to read as follows:

Authority: 12 U.S.C. 1462, 1462a, 1463, 1464, 1467a, 1828, 2901.

§ 575.7 [Amended]

26. Amend § 575.7 by removing “the relevant Federal deposit insurance fund,” and adding in its place “the Deposit Insurance Fund,” in paragraph (d)(6)(ii).

PART 583—DEFINITIONS FOR REGULATIONS AFFECTING SAVINGS AND LOAN HOLDING COMPANIES

27. The authority citation for part 583 continues to read as follows:

Authority: 12 U.S.C. 1462, 1462a, 1463, 1464, 1467a, 1468.

28. Revise § 583.3 to read as follows:

§ 583.3 Bank.

The term bank means any national bank, state bank, state-chartered savings bank, cooperative bank, or industrial bank, the deposits of which are insured by the Deposit Insurance Fund.

§ 583.5 [Removed]

29. Remove and reserve § 583.5.

§ 583.19 [Removed]

30. Remove and reserve § 583.19.

Dated: March 31, 2006.
By the Office of Thrift Supervision.
John M. Reich,
Director.

[FR Doc. 06-3720 Filed 4-17-06; 8:45 am]

BILLING CODE 6720-01-P